DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of October, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,454; Coe Manufacturing Co., Painesville, OH

TA-W-40,122; Texfi Industries, Haw River, NC

TA-W-39,351; AP Green Industries, Mexico, MO

TA-W-38,962; Smith Systems Manufacturing, Inc., Plano, TX

In the following cases, the investigation revealed that the criteria for eligibility have not been met for the reasons specified.

Increased imports did not contribute importantly to worker separations at the firm.

TA-W-39,782; Con Agra Flour Milling Plant, North Kansas City, MO

TA-W-39,855; The Xerox Corp., Oklahoma City, OK

TA-W-39,830; Werner Co., Keller Ladder Div., Swainsboro, GA

TA-W-39,859; Fonda Group, Inc., Maspeth, NY

The workers firm does not produce an article as required for certification under section 222 of the Trade Act of 1974.

TA-W-39,934; Techbooks Shippinsburg, PA

TA-W-39,870; Grupo Mexico ASARCO, Inc., El Paso, TX

TA-W-39,746 & A; Cody Energy LLC, Denver, CO and Houston, TX

The investigation revealed that criteria (2) and (3) has not been met. Sales or production did not decline during the relevant period as required for certification. Increased imports did not contribute importantly to worker separations at the firm.

TA-W-39,110; Standard Register, Rocky Mount, VA

Affirmative Determinations for Worker Adjustment Assistance

The following certifications have been issued; the date following the company name and location of each determination references the impact date for all workers of such determination.

TA-W-40,047; Carol Ann Fashions, Inc., Hastings, PA: August 31, 2000.

TA-W-39,966; Blue Water Fiber L.P., Port Huron, MI: August 17, 2000.

TA-W-39,745; Hilti, Inc., Hilti Steel Industry Div., Employed at CSC Ltd, Warren, OH: July 13, 2000.

TA-W-39,529; Quaker Oats Co., St. Joseph, MO: June 14, 2000.

TA-W-39,867; Glaxo Smith Kline, Piscataway, NJ: August 7, 2000.

TA-W-39,655; International Components Technology Corp., San Jose, CA: June 29, 2000.

TA-W-39,462; Monticello Manufacturing Co., Inc., Monticello, KY: June 1, 2000.

TA-W-39,833; Plymouth Garment Co., Plymouth, NC: August 3, 2000.

TA-W-39,344; Americ Disc, Inc., Clinton, TN: May 15, 2000.

TA-W-39,999; Gerber Childrenswear, Inc., Pelzer, SC: August 20, 2000.

TA-W-39,477; NYCO Minerals, Inc., Wilsboro, NY: May 31, 2000.

TA-W-39,753; Cumberland Wood Products, Inc., Helenwood, TN: July 18, 2000.

TA-W-39,971; Rundel Products, Inc., Portland, OR: August 22, 2000.

TA-W-39,951; Rotorex Co., Inc., Walkersville, MD: August 20, 2000.

TA-W-39,844; Paramount Headwear, Inc., Marble Hill, MO: August 9, 2000.

TA-W-39,890; Cutler-Hammer, Power Management Products Center, Eaton Corp., Pittsburgh, PA: August 6, 2001.

TA-W-39,729; Evenflo Co., Inc., Jasper, AL: July 10, 2000.

TA-W-39,327; Simpson Timber Co., Commencement Bay Sawmill, Tacoma, WA: May 8, 2000.

TA-W-39,795; Garland Shirt Co., Garland, NC: June 30, 2000.

TA-W-39,671; Fiber Optic Network Solutions, Northboro, MA: July 9, 2000.

TA-W-39,113; Petticoat Junction, Inc., North Bergen, NJ: April 11, 2000.

TA-W-39,755 & A, B; Ethan Allen, Island Pont, VT, Frewsburg, NY and Asheville, NC: July 12, 2000.

TA-W-39,549; Chicago Miniature Lamps, Wynnewood, OK: June 11, 2000.

TA-W-39,702; Southern Furniture Reproductions, Inc., Elizabethtown, NC: July 12, 2000.

TA-W-39,665; IMS, Employed at CSC Ltd, Warren, OH: June 19, 2000.

TA-W-39,543; Tyco Electronics, Fiber Optics Div., Menlo Park, CA: June 10, 2000.

TA-W-39, 405; Vishay Roederstein Electronics, Inc., Statesville, NC: May 23, 2000.

TA-W-39,590; Lees Curtain Co., The Arlee Group, Bridgeport, CT: June 22, 2000.

TA-W-39,130; ECM Motor Co., Div. Of Invensys Motor Systems, Elkhorn, WI: April 12, 2000.

Also, pursuant to Title V of the North American Free Trade Agreement Implementation Act (Pub. L. 103-182) concerning transitional adjustment assistance hereinafter called (NAFTA-TAA) and in accordance with section 250(b), Subchapter D, Chapter 2, Title II, of the Trade Act as amended, the Department of Labor presents summaries of determinations regarding eligibility to apply for NAFTA-TAA issued during the month of October, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers separations. There was no shift in production from the subject firm to Canada or Mexico during the relevant period.

NAFTA-TAA-05066; Carol Ann Fashions, Inc., Hastings, PA.

NAFTA-TAA-05334; Texfi Industries, Haw River, NC.

NAFTA-TAA-05292; Rotorex Co., Inc., Walkersville, MD.

NAFTA-TAA-05156; Con Agra Flour MIlling Plant, Buffalo, NY.

NAFTA-TAA-05155; Con Agra Flour Milling Plant, North Kansas City, MO.

NAFTA-TAA-04709; Orion Bus Industries, Inc., Oriskany, NY.

NAFTA-TAA-04963; Monticello Manufacturing Co., Inc., Monticello, KY.

The workers firm does not produce an article as required for certification under section 222 of the Trade Act of 1974.

NAFTA-TAA-05286; I2 Technologies, Yorba Linda, CA.

Affirmative Determinations NAFTA-TAA

NAFTA-TAA-05194; Robert Bosch Corp., Ashland, OH: august 3, 2000.

NAFTA-TAA-05080; Great Western International, Portland, OR: July 3, 2000.

NAFTA-TAA-05094; Contempora Fabrics, Inc., Lumberton, NC: July 16, 2000.

NAFTA-TAA-04940; Bradford Electronics, Inc., Bradford, PA: May 17, 2000.

NAFTA-TAA-04772; ECM Motor Co., Div. Of Invensys Motor Systems, Elkhorn, WI: April 9, 2000.

NAFTA-TAA-05323; Armada, Inc., Zinc Die Cast Department, Secondary Department, Leland, NC: September 12, 2000.

NAFTA-TAA-05256; Blue Water Fiber L.P., Port Huron, MI: August 17, 2000.

NAFTA-TAA-05270; Gerber Childrenswear, Inc., Pelzer, SC: August 20, 2000.

NAFTA-TAA-05318; United Tool and Die, Inc., Meadville, PA: August 22, 2000.

NAFTA-TAA-05008; Tyco Electronics, Fiber Optics Div., Menlo Park, CA: June 10, 2000.

NAFTA-TAA-05222; Cutler-Hammer, Power Management Products Center, Eaton Corp., Pittsburgh, PA: August 6, 2000.

NAFTA-TAA-05177; Shermag Corp. d/b/a/ Woodtek, North Anson, ME: June 27, 2000.

NAFTA-TAA-05211; New Holland North American, Inc., Belleville, PA: August 10, 2000.

NAFTA-TAA-05199; Plymouth Garment Co., Plymouth, NC: August 3, 2000.

NAFTA-TAA-04913; Americ Disc, Inc., Clinton, TN: May 15, 2000.

I hereby certify that the aforementioned determinations were issued during the month of October, 2001. Copies of these determinations are available for inspection in Room C-5311, U.S. Department of Labor, 200 Constitution Avenue NW., Washington, DC 20210 during normal business hours or will be mailed to persons who write to the above address.

Dated: October 19, 2001.
Edward A. Tomchick,
Director, Division of Trade Adjustment Assistance.

[FR Doc. 01-27234 Filed 10-29-01; 8:45 am]

BILLING CODE 4510-30-M